DEPARTMENT OF TRANSPORTATION

Federal Aviation Administration

14 CFR Part 39

[Docket No. FAA-2006-25966; Directorate Identifier 2006-NM-149-AD; Amendment 39-14909; AD 2007-02-22]

RIN 2120-AA64

Airworthiness Directives; Airbus Model A310 Airplanes

AGENCY: Federal Aviation Administration (FAA), Department of Transportation (DOT).

ACTION: Final rule.

SUMMARY: The FAA is adopting a new airworthiness directive (AD) for all Airbus Model A310 airplanes. This AD requires doing repetitive inspections for any missing, damaged, or incorrectly installed wiper rings in the splined couplings of the flap transmission shafts; inspections for any missing, damaged, or incorrectly installed rubber gaiters and straps on the sliding bearing/plunging joints of the flap transmission; and corrective action if necessary. This AD results from reviews in which the manufacturer determined that the splined couplings and sliding bearings of the flap transmission system could be affected by corrosion and wear. We are issuing this AD to detect and correct damaged, missing, or incorrectly installed components of the flap transmission system, which could result in reduced functional integrity of the flap transmission system and consequent reduced control of the airplane.

DATES: This AD becomes effective March 2, 2007.

The Director of the Federal Register approved the incorporation by reference of a certain publication listed in the AD as of March 2, 2007.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all Airbus Model A310 airplanes. That NPRM was published in the Federal Register on October 3, 2006 (71 FR 58320). That NPRM proposed to require doing repetitive inspections for any missing, damaged, or incorrectly installed wiper rings in the splined couplings of the flap transmissions shafts; inspections for any missing, damaged, or incorrectly installed rubber gaiters and straps on the sliding bearing/plunging joints of the flap transmission; and corrective action if necessary.

Comments

We provided the public the opportunity to participate in the development of this AD. We have considered the comments received.

Request To Revise Inspection Type

Airbus requests that the type of inspection specified in paragraph (f) of the NPRM be revised from general visual inspection to detailed inspection. The commenter states that calling the inspection a detailed inspection would be more relevant because cleaning of the work area is specified in the service bulletin referenced in paragraph (f) of the NPRM.

We agree with the commenter. We have revised this final rule to clarify that our intent is to require a detailed inspection. Additionally, we have added a note to the final rule to define that inspection.

Request To Incorporate Service Information

The Modification and Replacement of Parts Association (MARPA) states that typically airworthiness directives are based on service information originating with the type certificate holder or its suppliers. MARPA also states that manufacturer's service documents are privately authored instruments generally enjoying copyright protection against duplication and distribution. MARPA contends that when a service document is incorporated by reference pursuant to 5 U.S.C. 552(a) and 1 CFR part 51 into a public document such as an airworthiness directive, it loses its private, protected status and becomes itself a public document. MARPA explains that if a service document is used as a mandatory element of compliance it should not simply be referenced, but should be incorporated into the regulatory document. MARPA states that public laws by definition must be public which means they cannot rely for compliance upon private writings. MARPA is concerned that failure to incorporate essential service information could result in a court decision invalidating the airworthiness directive.

MARPA also states that incorporation by reference service documents should be made available to the public by publication in the Docket Management System (DMS) keyed to the action that incorporates them. MARPA explains that the stated purpose of the incorporation by reference method of the Federal Register is brevity; to keep from expanding the Federal Register needlessly by publishing documents already in the hands of the affected individuals. MARPA notes that traditionally, “affected individuals” has meant aircraft owners and operators who are generally provided service information by the manufacturer. However, MARPA states that a new class of affected individuals has emerged since the majority of aircraft maintenance is now performed by specialty shops instead of aircraft owners and operators. MARPA states that this new class includes maintenance and repair organizations, component servicing and repair shops, parts purveyors and distributors and organizations manufacturing or servicing alternatively certified parts under section 21.303 (“Replacement and modification parts”) of the Federal Aviation Regulations (14 CFR 21.303). Further, MARPA states that the concept of brevity is now nearly archaic as documents exist more frequently in electronic format than on paper.

We understand MARPA's comment concerning incorporation by reference. The Office of the Federal Register (OFR) requires that documents that are necessary to accomplish the requirements of the AD be incorporated by reference during the final rule phase of rulemaking. This final rule incorporates by reference the document necessary for the accomplishment of the requirements mandated by this AD. Further, we point out that while documents that are incorporated by reference do become public information, they do not lose their copyright protection. For that reason, we advise the public to contact the manufacturer to obtain copies of the referenced service information.

In regard to the commenter's request to post service bulletins on the Department of Transportation's DMS, we are currently in the process of reviewing issues surrounding the posting of service bulletins on the DMS as part of an AD docket. Once we have thoroughly examined all aspects of this issue and have made a final determination, we will consider whether our current practice needs to be revised. No change to the final rule is necessary in response to this comment.

Conclusion

We have carefully reviewed the available data, including the comments received, and determined that air safety and the public interest require adopting the AD with the changes described previously. We have determined that these changes will neither increase the economic burden on any operator nor increase the scope of the AD.

Costs of Compliance

The following table provides the estimated costs for U.S. operators to comply with this AD.

Estimated Costs
Action | Work hours | Average labor rate per hour | Cost per airplane | Number of U.S.-registered airplanes | Fleet cost
Inspection, per inspection cycle | 3 | $80 | $240 | 63 | $15,120, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-02-22 Airbus: Amendment 39-14909. FAA-2006-25966; Directorate Identifier 2006-NM-149-AD.

Effective Date

(a) This AD becomes effective March 2, 2007.

Affected ADs

(b) None.

Applicability

(c) This AD applies to all Airbus Model A310 airplanes, certificated in any category.

Unsafe Condition

(d) This AD results from reviews in which the manufacturer determined that the splined couplings and sliding bearings of the flap transmission system could be affected by corrosion and wear. We are issuing this AD to detect and correct damaged, missing, or incorrectly installed components of the flap transmission system, which could result in reduced functional integrity of the flap transmission system and consequent reduced control of the airplane.

Compliance

(e) You are responsible for having the actions required by this AD performed within the compliance times specified, unless the actions have already been done.

Initial and Repetitive Inspections

(f) Within 2,500 flight cycles after the effective date of this AD: Do a detailed inspection for any missing, damaged, or incorrectly installed wiper rings in the splined couplings of the flap transmission shafts; and a detailed inspection for any missing, damaged, or incorrectly installed rubber gaiters and straps on the sliding bearing/plunging joints of the flap transmission; in accordance with the Accomplishment Instructions of Airbus Service Bulletin A310-27-2099, dated February 17, 2006. Repeat the inspections thereafter at intervals not to exceed 2,500 flight cycles.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Corrective Actions

(g) If any damaged, missing or incorrectly installed wiper rings, rubber gaiters, or straps are found during any inspection required by paragraph (f) of this AD: Within 400 flight cycles after accomplishing the inspection, replace the applicable component with a serviceable component in accordance with the Accomplishment Instructions of Airbus Service Bulletin A310-27-2099, dated February 17, 2006.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) The European Aviation Safety Agency's airworthiness directive 2006-0111, dated May 12, 2006, also addresses the subject of this AD.

Material Incorporated by Reference

(j) You must use Airbus Service Bulletin A310-27-2099, dated February 17, 2006, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr/locations.html.

Issued in Renton, Washington, on January 16, 2007.
Ali Bahrami,
Manager, Transport Airplane Directorate, Aircraft Certification Service.

[FR Doc. E7-1080 Filed 1-25-07; 8:45 am]

BILLING CODE 4910-13-P